DEPARTMENT OF STATE

[Public Notice: 7873]

Meetings of the United States-Peru Environmental Affairs Council, Environmental Cooperation Commission and Sub-Committee on Forest Sector Governance

ACTION: Notice of meetings of the United States-Peru Environmental Affairs Council, Environmental Cooperation Commission and Sub-Committee on Forest Sector Governance, and request for comments.

SUMMARY: The Department of State and the Office of the United States Trade Representative (USTR) are providing notice that the United States and Peru intend to hold the fifth meeting of the Sub-Committee on Forest Sector Governance (the “Sub-Committee”) on May 29, 2012, and the third meeting of the Environmental Affairs Council (the “Council”) and the second meeting of the Environmental Cooperation Commission (the “Commission”) on May 31, 2012. The public sessions for the Council and Sub-Committee also will be held on May 31, at 2:00 p.m. The entire meeting of the Commission will be open to the public and will begin at 3:45 p.m. All meetings will take place at 1724 F St. NW., Washington, DC.

The purpose of the meetings is to review implementation of: Chapter 18 (Environment) of the United States-Peru Trade Promotion Agreement (PTPA); the PTPA Annex on Forest Sector Governance (Annex 18.3.4); the United States-Peru Environmental Cooperation Agreement (ECA); and the 2011-2014 Work Program under the ECA.

The Department of State and USTR invite interested organizations and members of the public to attend the public sessions and Commission meeting, and to submit written comments or suggestions regarding implementation of Chapter 18, Annex 18.3.4, the ECA, or the 2011-2014 Work Program, and any items that should be included on the meetings' agendas. If you would like to attend the public sessions or Commission meeting, please notify Tiffany Prather and Amy Karpel at the email addresses listed below under the heading ADDRESSES. Please include your full name and any organization or group you represent.

In preparing comments, submitters are encouraged to refer to:

• Chapter 18 of the PTPA, including Annex 18.3.4,

• The Final Environmental Review of the PTPA,

• The ECA, and

• The 2011-2014 Work Program.

These documents are available at: http://www.ustr.gov/trade-agreements/free-trade-agreements/peru-tpa and http://www.state.gov/e/oes/env/trade/peru/index.htm.

DATES: The public sessions of the Council, Sub-Committee and Commission meetings will be held on May 31, 2012, beginning at 2:00 p.m., at 1724 F St. NW., Washington, DC. Comments and suggestions are requested in writing no later than May 23, 2012.

ADDRESSES: Written comments and suggestions should be submitted to both:

(1) Tiffany Prather, Office of Environmental Policy, U.S. Department of State, by electronic mail at PratherTA@state.gov with the subject line “U.S.-Peru EAC/ECC/Sub-Committee Meetings”; and

(2) Amy Karpel, Office of Environment and Natural Resources, Office of the United States Trade Representative, by electronic mail at Amy_Karpel@ustr.eop.gov with the subject line “U.S.-Peru EAC/ECC/Sub-Committee Meetings”.

If you have access to the Internet, you can view and comment on this notice by going to http://www.regulations.gov/#!home and searching on its Public Notice number: 7873.

FOR FURTHER INFORMATION CONTACT: Tiffany Prather, Telephone (202) 647-4548 or Amy Karpel, Telephone (202) 395-7320.

SUPPLEMENTARY INFORMATION: The PTPA entered into force on February 1, 2009. Article 18.6 of the PTPA establishes an Environmental Affairs Council, which is required to meet at least once a year or as otherwise agreed by the Parties to discuss the implementation of, and progress under, Chapter 18. Annex 18.3.4 of the PTPA establishes a Sub-Committee on Forest Sector Governance. The Sub-Committee is a specific forum for the Parties to exchange views and share information on any matter arising under the PTPA Annex on Forest Sector Governance. The ECA entered into force on August 23, 2009. Article III of the ECA establishes an Environmental Cooperation Commission and makes the Commission responsible for developing a Work Program. Chapter 18 of the PTPA and Article VI of the ECA require that meetings of the Council and Commission respectively include a public session, unless the Parties otherwise agree. At its first meeting, the Sub-Committee on Forest Sector Governance committed to hold a public session after each Sub-Committee meeting.

Dated: May 7, 2012.
George N. Sibley,
Director, Office of Environmental Policy, Department of State.

[FR Doc. 2012-11624 Filed 5-11-12; 8:45 am]

BILLING CODE 4710-09-P